DEPARTMENT OF ENERGY

Federal Energy Regulatory Commission

[Docket No. RP01-32-000]

TransColorado Gas Transmission Company; Notice of Tariff Filing

October 12, 2000.

Take notice that on October 10, 2000, TransColorado Gas Transmission Company (TransColorado) tendered for filing to become part of its FERC Gas Tariff, Original Volume No. 1, Second Revised Sheet No. 246, Original Sheet No. 246A and Fifth Revised Sheet No. 247, to be effective November 1, 2000.

TransColorado states that the purpose of this filing is to comply with Order No. 587-L issued June 30, 2000, in Docket No. RM96-1-014, which established November 1, 2000, as the implementation date for interstate pipeline companies to include, in their FERC Gas Tariff, a provision to permit shippers to net and trade imbalances.

TransColorado states that a copy of this filing has been served upon TransColorado's customers, the New Mexico Public Utilities Commission and the Colorado Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 145.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26688 Filed 10-17-00; 8:45 am]

BILLING CODE 6717-01-M